DEPARTMENT OF HEALTH AND HUMAN SERVICES

Health Resources and Services Administration

Agency Information Collection Activities: Proposed Collection: Comment Request

ACTION: Notice.

Summary: In compliance with the requirement for opportunity for public comment on proposed data collection projects (section 3506(c)(2)(A) of Title 44, United States Code, as amended by the Paperwork Reduction Act of 1995, Pub. L. 104-13), the Health Resources and Services Administration (HRSA) publishes periodic summaries of proposed projects being developed for submission to the Office of Management and Budget (OMB) under the Paperwork Reduction Act of 1995. To request more information on the proposed project or to obtain a copy of the data collection plans and draft instruments, email paperwork@hrsa.gov or call the HRSA Reports Clearance Officer at (301) 443-1984.

HRSA especially requests comments on: (1) The necessity and utility of the proposed information collection for the proper performance of the agency's functions, (2) the accuracy of the estimated burden, (3) ways to enhance the quality, utility, and clarity of the information to be collected, and (4) the use of automated collection techniques or other forms of information technology to minimize the information collection burden.

Information Collection Request Title: Analyzing Title V Programs in the Context of the Affordable Care Act (OMB No. 0915-xxxx)—[New]

Abstract: The Affordable Care Act (ACA) will make affordable health coverage available to all legal U.S. residents, as well as guide transformation in the delivery of medicine and public health services. For children, expanded coverage has come about gradually over the past two decades, and implementation of major coverage provisions of the ACA in 2014 will result in some shifts in child health coverage.

The Title V Maternal and Child Health (MCH) Block Grant, administered by the Health Resources and Services Administration's Maternal and Child Health Bureau, provides a foundation for ensuring the health of the nation's mothers, women, children, and youth, including children and youth with special health care needs, and their families. Many ACA provisions, like State Medicaid expansions and mandatory health insurance, will change the face of health insurance demand and services provided. In response, State Title V programs will focus on increasing access, equality, and health equity.

A proposed data collection form has been developed to collect health care services budget information from Title V MCH Block Grant recipients to better understand the types of direct services currently provided by Title V MCH programs. This form will request information on medical services and program support services in addition to data on the individuals served.

Burden Statement: Burden in this context means the time expended by persons to generate, maintain, retain, disclose, or provide the information requested. This includes the time needed to review instructions, to develop, acquire, install and utilize technology and systems for the purpose of collecting, validating and verifying information, processing and maintaining information, and disclosing and providing information, to train personnel and to be able to respond to a collection of information, to search data sources, to complete and review the collection of information, and to transmit or otherwise disclose the information. The total annual burden hours estimated for this ICR are summarized in the table below.

The annual estimate of burden is as follows:

Form name | Number of respondents | Number of responses per respondent | Total responses | Average burden per response (in hours) | Total burden hours
Title V Health Care Services Budget Survey | 59 | 1 | 59 | 8 | 472
Total | 59 |  | 59 |  | 472

ADDRESSES: Submit your comments to paperwork@hrsa.gov or mail the HRSA Reports Clearance Officer, Room 10-29, Parklawn Building, 5600 Fishers Lane, Rockville, MD 20857.

Deadline: Comments on this ICR must be received within 60 days of this notice.

Dated: December 26, 2012.
Bahar Niakan,
Director, Division of Policy and Information Coordination.

[FR Doc. 2013-00030 Filed 1-4-13; 8:45 am]

BILLING CODE 4165-15-P